DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U. S. C. Chapter 35). To request a copy of these documents, call the SAMHSA Reports Clearance Officer on (240) 276-1243.

Project: Screening, Brief Intervention, and Referral to Treatment (SBIRT) Cross-Site Evaluation—New

SAMHSA is conducting a cross-site external evaluation of the impact of programs of screening, brief intervention (BI), brief treatment (BT), and referral to treatment (RT) on patients presenting at various health care delivery units with a continuum of severity of substance use. SAMHSA's SBIRT program is a cooperative agreement grant program designed to help states and Tribal Councils expand the continuum of care available for substance misuse and use disorders. The program includes screening, BI, BT, and RT for persons at risk for dependence on alcohol or drugs. This evaluation will provide a comprehensive assessment of SBIRT implementation; the effects of SBIRT on patient outcomes, performance site practices, and treatment systems; and the sustainability of the program. This information will allow SAMHSA to determine the extent to which SBIRT has met its objectives of implementing a comprehensive system of identification and care to meet the needs of individuals at all points along the substance use continuum.

To evaluate the success of SBIRT implementation at the site level, a web-based survey will be administered to staff in sites where SBIRT services are being delivered—referred to as performance sites. The Performance Site Survey will be distributed to individuals who directly provide SBIRT services and staff who interact regularly with SBIRT providers and patients receiving SBIRT services. The types of staff surveyed will include intake staff, medical providers, behavioral health providers, social workers, and managerial and administrative staff who oversee these staff. Since cross-site evaluation team members will be traveling to selected SBIRT providers and coordinating with state and site administrators on a yearly basis, there is an opportunity to complete a near-census of all SBIRT-related staff at performance sites with a minimal level of burden.

The 78 question web survey includes the collection of basic demographic information, questions about the organization's readiness to implement SBIRT, and questions about the use of health information technology (HIT) to deliver SBIRT services. The demographic questions were tailored from a previous cross-site evaluation survey to fit the current set of cross-site grantees. The organizational readiness questions were developed through a review of the extant implementation science research literature (e.g., Chaudoir, Dugan, & Barr, 2013; Damschroder et al., 2009; Garner, 2009; Greenhalgh, MacFarlane, & Kyriakidou, 2004; Weiner, 2009; Weiner, Belden, Bergmire, & Johnston, 2011). Based on this review, the Organizational Readiness for Implementation Change (ORIC) (Shea, Jacobs, Esserman, Bruce, & Weiner, 2014) and the Implementation Climate Scale (ICS) (Jacobs, Weiner, & Bunger, 2014) were identified as the two most appropriate instruments. In addition to questions from these two instruments, the survey includes questions to assess satisfaction, capacity, and infrastructure to implement SBIRT screening, BI, and BT.

To identify relevant HIT measures, the cross-site evaluation team modified measures from socio-technical frameworks (Kling, 1980), including the DeLone and McClean framework (DeLone & McLean, 2004), the Public Health Informatics Institute Framework (PHII, 2005), and the Human Organization and Technology (Hot)-FIT Framework (Yusof, 2008). Across these three frameworks, the survey captures measures of system availability, information availability, organizational structure and environment, utilization, and user satisfaction.

Total Burden Hours for the Performance Site Survey
Respondent | Number of respondents (a) | Number of responses/respondent | Total number of responses | Hours per response (b) | Annual burden hours
Intake/front desk staff | 215 | 1 | 215 | 0.22 | 47.30
Performance site administrators | 191 | 1 | 191 | 0.22 | 42.02
Clinical supervisors | 101 | 1 | 101 | 0.22 | 22.22
Medical providers | 571 | 1 | 571 | 0.22 | 125.62
Behavioral health providers | 211 | 1 | 211 | 0.22 | 46.42
Social workers | 118 | 1 | 118 | 0.22 | 25.96
TOTAL | 1,407 |  | 1,407 |  | 309.54
(a) The maximum number of annual respondents has been based on estimates from cross-site evaluation site visits.
(b) The average burden per response was estimated based on independent review of the instrument by contractor staff.

Written comments and recommendations concerning the proposed information collection should be sent by February 26, 2016 to the SAMHSA Desk Officer at the Office of Information and Regulatory Affairs, Office of Management and Budget (OMB). To ensure timely receipt of comments, and to avoid potential delays in OMB's receipt and processing of mail sent through the U. S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, D C 20503.

Summer King,
Statistician.

[FR Doc. 2016-01671 Filed 1-26-16; 8:45 am]

BILLING CODE 4162-20-P